NATIONAL AERONAUTICS AND SPACE ADMINISTRATION

[Notice 05-012]

Notice of Prospective Patent License

AGENCY: National Aeronautics and Space Administration.

ACTION: Notice of Prospective Patent License.

SUMMARY: NASA hereby gives notice that Bartron Medical Imaging, LLC, of New Haven, Connecticut, has applied for a partially exclusive license to practice the inventions described and claimed in U.S. Patent Application No. 09/839,147, entitled “Method for Implementation of Recursive Hierarchical Segmentation on Parallel Computers,” and claimed in U.S. Patent Application No. 10/845,419, entitled “A Method for Recursive Hierarchical Segmentation which Eliminates Processing Window Artifacts,” which are assigned to the United States of America as represented by the Administrator of the National Aeronautics and Space Administration. Written objections to the prospective grant of a license should be sent to NASA Goddard Space Flight Center. NASA has not yet made a determination to grant the requested license and may deny the requested license even if no objections are submitted within the comment period.

DATES: Responses to this notice must be received by February 14, 2005.

FOR FURTHER INFORMATION CONTACT: Keith Dixon, NASA Goddard Space Flight Center, Code 503, Greenbelt, MD 20771, (301) 286-9279.

Dated: January 18, 2005.
Keith T. Sefton,
Deputy General Counsel (Administration and Management).

[FR Doc. 05-1546 Filed 1-27-05; 8:45 am]

BILLING CODE 7510-13-U